ENVIRONMENTAL PROTECTION AGENCY

[FRL OP-OFA-191]

Environmental Impact Statements; Notice of Availability

Responsible Agency: Office of Federal Activities, General Information 202-564-5632 or https://www.epa.gov/nepa.

Weekly receipt of Environmental Impact Statements (EIS)

Filed August 4, 2025 10 a.m. EST Through August 11, 2025 10 a.m. EST

Pursuant to CEQ Guidance on 42 U.S.C. 4332.

Notice

Section 309(a) of the Clean Air Act requires that EPA make public its comments on EISs issued by other Federal agencies. EPA's comment letters on EISs are available at: https://cdxapps.epa.gov/cdx-enepa-II/public/action/eis/search.

EIS No. 20250112, Final, STB, TX, Green Eagle Railroad, Review Period Ends: 09/05/2025, Contact: Andrea Poole 202-245-0305.

EIS No. 20250113, Final Supplement, USCG, USN, VA, Atlantic Fleet Training and Testing, Review Period Ends: 09/15/2025, Contact: Jill Sears 757-836-7583.

EIS No. 20250114, Final, USFS, BLM, UT, Skyline Mine Little Eccles Lease by Application and Flat Canyon Lease Modification Application, Contact: Erika Tobin 435-636-3605.

EIS No. 20250115, Final, USA, NC, Real Property Master Plan Implementation at Military Ocean Terminal Sunny Point, North Carolina, Review Period Ends: 09/15/2025, Contact: Adrienne M. Rogers 571-644-8909.

EIS No. 20250116, Final Supplement, OSM, MT, Rosebud Mine Area F, Contact: Marcelo Calle 303-236-2929.

EIS No. 20250117, Final, NRC, WI, Generic Environmental Impact Statement for License Renewal of Nuclear Plants, Supplement 23, Second Renewal, Regarding Subsequent License Renewal for Point Beach Nuclear Plant, Units 1 and 2, Final Report, Review Period Ends: 09/15/2025, Contact: Kevin Folk 301-415-6944.

Amended Notice

EIS No. 20250075, Draft, FERC, MA, Hydropower Licenses for the Northfield Mountain Pumped Storage Project et al., Comment Period Ends: 08/28/2025, Contact: Office of External Affairs 866-208-3372.

Revision to FR Notice Published 06/06/2025; Extending the Comment Period from 07/29/2025 to 08/28/2025.

EIS No. 20250076, Draft, FERC, VT, Hydropower Licenses for the Wilder, Bellow Falls, and Vernon Hydroelectric Projects, Comment Period Ends: 08/28/2025, Contact: Office of External Affairs 866-208-3372.

Revision to FR Notice Published 06/06/2025; Extending the Comment Period from 07/29/2025 to 08/28/2025.

Dated: August 11, 2025.
Nancy Abrams,
Associate Director, Office of Federal Activities.

[FR Doc. 2025-15551 Filed 8-14-25; 8:45 am]

BILLING CODE 6560-50-P